DEPARTMENT OF ENERGY

Federal Energy Regulatory Commission

[Docket No. EC00-74-000, et al.]

Statoil Energy Trading, Inc., et al.; Electric Rate and Corporate Regulation Filings

April 14, 2000.

Take notice that the following filings have been made with the Commission:

1. Statoil Energy Trading, Inc.

[Docket No. EC00-74-000]

Take notice that on April 7, 2000, pursuant to section 203 of the Federal Power Act, 16 U.S.C. 824b (1994), and Part 33 of the Commission's regulations, 18 CFR part 33, Statoil Energy Trading, Inc. (SETI) tendered for filing an application for Commission approval of the disposition of jurisdictional facilities to Constellation Power Source, Inc. The jurisdictional facilities being transferred are SETI's wholesale electric power sales agreements and associated books and records.

Comment date: May 8, 2000, in accordance with Standard Paragraph E at the end of this notice.

2. Duke Energy Vermillion, LLC

[Docket No. EG00-108-000]

Take notice that on April 13, 2000, Duke Energy Vermillion, LLC (Duke Vermillion) filed a modification with the Federal Energy Regulatory Commission (the Commission) to its Application for Commission Determination of Exempt Wholesale Generator Status which was filed in the above-referenced docket on March 2, 2000.

Duke Vermillion requests that the reference to “gas storage” activities be stricken from its Application. Duke Vermillion has also requested expedited consideration of its Application as modified.

Comment date: April 27, 2000, in accordance with Standard Paragraph E at the end of this notice. The Commission will limit its consideration of comments to those that concern the adequacy or accuracy of the application.

3. Duke Energy Madison, LLC

[Docket No. EG00-109-000]

Take notice that on April 13, 2000, Duke Energy Madison, LLC (Duke Madison) filed a modification with the Federal Energy Regulatory Commission (the Commission) to its Application for Commission Determination of Exempt Wholesale Generator Status which was filed in the above-referenced docket on March 2, 2000.

Duke Madison requests that the reference to “gas storage” activities be stricken from its Application. Duke Madison has also requested expedited consideration of its Application as modified.

Comment date: April 27, 2000, in accordance with Standard Paragraph E at the end of this notice. The Commission will limit its consideration of comments to those that concern the adequacy or accuracy of the application.

4. Hays Energy Limited Partnership

[Docket No. EG00-128-000]

Take notice that on April 12, 2000, Hays Energy Limited Partnership (Applicant), a Delaware limited partnership, whose address is 10000 Memorial Drive, Suite 500, Houston, Texas 77024, filed with the Federal Energy Regulatory Commission an application for determination of exempt wholesale generator status pursuant to part 365 of the Commission's regulations.

Applicant intends to construct an approximate 1,100 MW natural gas-fired combined cycle independent power production facility in Hays County, Texas (the Facility). The Facility is currently under development and will be owned and operated by Applicant. Electric energy produced by the Facility will be sold initially by Applicant to the Lower Colorado River Authority.

Comment date: May 5, 2000, in accordance with Standard Paragraph E at the end of this notice. The Commission will limit its consideration of comments to those that concern the adequacy or accuracy of the application.

5. Meiya Electric Asia, Ltd.

[Docket No. EG00-129-000]

Take notice that on April 13, 2000, Meiya Electric Asia, Ltd. (MEA) with its principal office at 608 St. James Court, St. Dennis Street, Port Louis, Mauritius filed with the Federal Energy Regulatory Commission an application for determination of exempt wholesale generator status pursuant to Part 365 of the Commission's regulations.

MEA is a company organized under the laws of Mauritius. MEA will be engaged, directly or indirectly through an affiliate as defined in Section 2(a)(11)(B) of the Public Utility Holding Company Act of 1935, exclusively in owning, or both owning and operating a coal-fired co-generation facility consisting of three 75 ton coal fired boilers and two 12 MW steam turbine generators and incidental facilities located within the Jiangsu Province, PRC; selling electric energy at wholesale and engaging in project development activities with respect thereto.

Comment date: May 5, 2000, in accordance with Standard Paragraph E at the end of this notice. The Commission will limit its consideration of comments to those that concern the adequacy or accuracy of the application.

6. PSEG Rongjiang Hydropower Ltd.

[Docket No. EG00-130-000]

Take notice that on April 13, 2000, PSEG Rongjiang Hydropower Ltd. (PRHP) with its principal office at 608 St. James Court, St. Denis Street, Port Louis, Mauritius filed with the Federal Energy Regulatory Commission an application for determination of exempt wholesale generator status pursuant to Part 365 of the Commission's regulations.

PRHP is a company organized under the laws of Mauritius. PRHP will be engaged, directly or indirectly through an affiliate as defined in Section 2(a)(11)(B) of the Public Utility Holding Company Act of 1935, exclusively in owning, or both owning and operating a hydropower electric generating facility consisting of three 18 megawatt hydro-turbine generators and incidental facilities located along the Rongjiang River, Liuzhou Prefecture, Guangxi Zhuang Autonomous Region, PRC; selling electric energy at wholesale and engaging in project development activities with respect thereto.

Comment date: May 5, 2000, in accordance with Standard Paragraph E at the end of this notice. The Commission will limit its consideration of comments to those that concern the adequacy or accuracy of the application.

7. TXU Energy Trading Company

[Docket Nos. ER99-3333-003, EL00-69-000 and ER00-2178-000]

Take notice that on April 11, 2000, TXU Energy Trading Company (TXU ET) filed a notice of change in status, revision to its rate schedule, and a request for waiver of certain code of conduct requirements to reflect the advent of retail competition and electric industry restructuring in Texas.

Copies of the filing have been served on all customers under TXU ET's current rate schedule.

Comment date: May 2, 2000, in accordance with Standard Paragraph E at the end of this notice.

8. ISO New England Inc.

[Docket No. ER00-749-002]

Take notice that on April 11, 2000, ISO New England Inc. tendered for filing with the Commission, information regarding Market Rule 15 corrective actions for the period from December 8, 1999 through March 21, 1999 in the above-referenced proceeding for informational purposes only.

9. ISO New England Inc.

[Docket No. ER00-2198-000]

Take notice that on April 10, 2000, ISO New England Inc. tendered for filing with the Commission for informational purposes only a revised Code of Conduct and Ethics Policy for ISO New England Inc.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-9944 Filed 4-20-00; 8:45 am]

BILLING CODE 6717-01-P